DEPARTMENT OF COMMERCE

National Oceanic and Atmospheric Administration

Notice of Availability of a Draft NOAA Climate Service Strategic Vision and Framework for Public Review, and Notice of Informational Webinar Meetings

ACTION: Notice of availability of a draft NOAA Climate Service strategic vision and framework for public review, and notice of informational webinar meetings.

SUMMARY: On February 8, 2010, the Department of Commerce and the National Oceanic and Atmospheric Administration (NOAA) announced their intent to establish a new NOAA Climate Service (NCS). The new service will directly support NOAA's vision of “an informed society that uses a comprehensive understanding of the role of the oceans, coasts, and atmosphere in the global ecosystem to make the best social and economic decisions.” It will also contribute to NOAA's mission “to understand and anticipate changes in Earth's environment, and conserve and manage coastal and marine resources to meet our Nation's economic, social and environmental needs.” The reorganization of existing agency assets is intended to help NOAA better work with our partners to respond to the growing demands for climate information from the public, business, industry, local, state and Federal agencies, and decision makers.

As part of the process to establish a new NCS, NOAA recently completed a strategic vision and framework document that describes how NOAA proposes to respond to society's growing need for climate services. The document describes the vision and outlines how the NCS can achieve new strategic goals related to the delivery and development of reliable, timely, and authoritative climate science and service to enable a climate-resilient society to grow and prosper.

NOAA will accept comments on the strategic vision from September 21 to midnight on October 18, 2010. A copy of the draft document and instructions on how to submit comments can be found at http://www.noaa.gov/climate.

NOAA is also hosting a series of informational webinars for individuals and organizations to learn more about the proposed NCS vision and timeline and to provide an opportunity for to answer questions, and obtain feedback. Each webinar is targeted to a specific sector, and will begin with a presentation from Dr. Chet Koblinsky, Director, NOAA Climate Program Office and Transitional Deputy Director, NOAA Climate service, and will be followed by a question and answer session.

DATES: The webinar meeting dates are:

1. Friday, September 24, 2010, 1 p.m. to 2:30 p.m. EST, for the academic research community.

2. Friday, September 24, 2010, 3 p.m. to 4:30 p.m. EST, for state and local government officials.

3. Wednesday, September 29, 2010, 3:30 p.m. to 5 p.m. EST, for the corporate and business community.

4. Thursday, September 30, 2010, 3:30 p.m. to 5 p.m. EST, for non-governmental and non-profit organizations.

For specific instructions for each webinar, please visit http://www.noaa.gov/climateresources/meetings. Additional information about the proposed NOAA Climate Service, including questions and answers can be found at http://www.noaa.gov/climate.

FOR FURTHER INFORMATION CONTACT: Brady Phillips, NOAA Office of Communications and External Affairs, 14th and Constitution Avenue, NW., Washington, DC 20230. (Phone: 202-482-2365, Fax: 202-482-3154, E-mail: brady.phillips@noaa.gov); or visit http://www.noaa.gov/climateresources/meetings.

Dated: September 16, 2010.
Mark E. Brown,
Acting Chief Financial Officer, Office of Oceanic and Atmospheric Research, National Oceanic and Atmospheric Administration.

[FR Doc. 2010-23630 Filed 9-21-10; 8:45 am]

BILLING CODE 3510-KD-P